DEPARTMENT OF ENERGY

Federal Energy Regulatory Commission

[Docket No. EG01-214-000, et al.]

Desert Power, L.P., et al.; Electric Rate and Corporate Regulation Filings

May 21, 2001.

Take notice that the following filings have been made with the Commission:

1. Desert Power, L.P.

[Docket No. EG01-214-000]

Take notice that on May 17, 2001, Desert Power, L.P.(Applicant), a limited partnership with its principal place of business at 5847 San Felipe, Suite 2900, Houston, TX 77057, filed with the Federal Energy Regulatory Commission (Commission) an application for determination of exempt wholesale generator status pursuant to Part 365 of the Commission's regulations.

Applicant proposes to construct, own and operate a natural gas-fired power plant with a nameplate rating of 80 MW in Rowley, Tooele County, Utah. The proposed power plant is projected to commence commercial operation on or about July 1, 2001. All output from the plant will be sold by Applicant exclusively at wholesale.

Comment date: June 11, 2001, in accordance with Standard Paragraph E at the end of this notice. The Commission will limit its consideration of comments to those that concern the adequacy or accuracy of the application.

2. Deseret Generation & Transmission Co-operative

[Docket No. ER01-2057-000]

Take notice that on May 16, 2001, Deseret Generation & Transmission Co-operative tendered for filing an informational filing in compliance with its rate schedules. The filing sets forth the revised approved costs for member-owned generation resources and the revised approved reimbursements under its Resource Integration Agreements with two of its members, Garkane Power Association, Inc., and Moon Lake Electric Association, Inc. A copy of this filing has been served upon all of Deseret's members.

Comment date: June 6, 2001, in accordance with Standard Paragraph E at the end of this notice.

3. Sierra Pacific Power Company, Nevada Power Company

[Docket No. ER01-1527-001, and ER01-1529-001]

Take notice that on May 15, 2001, Sierra Pacific Power Company (SPPC) and Nevada Power Company (NPC) tendered for filing revised tariff sheets as required by Ordering Paragraph (B) of the Commission's May 11, 2001 Order in the above noted dockets.

Comment date: June 5, 2001, in accordance with Standard Paragraph E at the end of this notice.

4. Consumers Energy Company

[Docket Nos. ER92-331-008, and ER92-332-008]

Take notice that on May 16, 2001, Consumers Energy Company (Consumers) tendered for filing the following substitute tariff sheets as part of its FERC Electric Tariff No. 5 in compliance with the April 16, 2001 order, and previous orders, issued in these proceedings:

Sub Original Sheet Nos. 2.00, 10.00, 11.00 and 12.00.

The first sheet listed is to have an effective date of June 21,1993. The remaining three sheets are to have an effective date of May 2, 1992. Copies of these sheets were served upon the Michigan Public Service Commission and upon those on the official service lists in these proceeding.

Comment date: June 6, 2001, in accordance with Standard Paragraph E at the end of this notice.

5. Pilot Power Group, Inc.

[Docket No. ER01-1699-001]

Take notice that on May 14, 2001, Pilot Power Group, Inc. (Pilot) tendered for filing for acceptance of Pilot Rate Schedule FERC No. 1 (the Rate Schedule); the granting of certain blanket approvals, including the authority to sell electricity at market-based rates; and the waiver of certain Commission regulations. In its Petition, Pilot also requested that the Commission grant blanket authority for retail end-use customers of Pilot to sell to Pilot excess electricity not required for delivery to said customers at market-based rates pursuant to the Rate Schedule, and grant waiver of certain Commission regulations.

By letter order dated April 30, 2001, the Commission granted Pilot's petition, conditioned upon Pilot re-filing with the Commission its Rate Schedule with the proper designations, within 30 days of the order. On May 10, 2001, Pilot filed with the Commission its Rate Schedule amended to include the proper designations.

Comment date: June 4, 2001, in accordance with Standard Paragraph E at the end of this notice.

6. Arizona Public Service Company

[Docket No. ER01-2055-000]

Take notice that on May 16, 2001, Arizona Public Service Company (APS) tendered for filing an Interconnection and Operating Agreement with Pinnacle West Energy under APS' Open Access Transmission Tariff.

A copy of this filing has been served on Pinnacle West Energy and the Arizona Corporation Commission.

Comment date: June 6, 2001, in accordance with Standard Paragraph E at the end of this notice.

7. Avista Corporation

[Docket No. ER01-2056-000]

Take notice that on May 16, 2001, Avista Corporation tendered for filing a Service Agreement assigned Rate Schedule FERC No. 65, previously filed with the Federal Energy Regulatory Commission by Avista Corporation, formerly known as The Washington Water Power Company, under the Commission's Docket No. ER95-806-000 with Dynegy Power Marketing, Inc., formerly dba Electric Clearinghouse, Inc., is to be terminated, effective May 7, 2001 by the request of Dynegy Power Marketing, Inc., per its letter dated April 30, 2001. Notice of the cancellation has been served upon the following:

Comment date: June 6, 2001, in accordance with Standard Paragraph E at the end of this notice.

8. Entrust Energy, L.L.C.

[Docket No. ER01-2059-000]

Take notice that on May 16, 2001, Entrust Energy, L.L.C. (EEPM) tendered for filing to the Commission for acceptance of Entrust Energy Rate Schedule FERC No. 1; the granting of certain blanket approvals, including the authority to sell electricity at market-based rates; and the waiver of certain Commission regulations.

Entrust Energy intends to engage in wholesale electric power and energy purchases and sales as a marketer. Entrust Energy is not in the business of generating or transmitting electric power. Entrust Energy is a Limited Liability Company.

Comment date: June 6, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13350 Filed 5-25-01; 8:45 am]

BILLING CODE 6717-01-P